DEPARTMENT OF COMMERCE

International Trade Administration

[A-570-894]

Certain Tissue Paper Products From the People's Republic of China: Notice of Partial Rescission and Extension of Time Limit for Preliminary Results of 2009-2010 Antidumping Duty Administrative Review

AGENCY: Import Administration, International Trade Administration, Department of Commerce.

SUMMARY: The U.S. Department of Commerce (the Department) is rescinding in part the administrative review of the antidumping duty order on certain tissue paper products from the People's Republic of China (PRC) for the period of review (POR) of March 1, 2009, to February 28, 2010, with respect to Max Fortune Industrial Limited (Max Fortune Industrial), Max Fortune (FZ) Paper Products Co., Ltd. (formerly known as Max Fortune (FETDE) Paper Products Co., Ltd.) (Max Fortune Fuzhou), and Fujian Provincial Shaowu City Huaguang Special Craft Co., Ltd. (Huaguang Special Craft). This partial rescission is based on the timely withdrawal of the requests for review by the only interested parties that requested the review of these companies. The Department is also fully extending the time limit for completion of the preliminary results of this administrative review with respect to Max Fortune (Vietnam) Paper Products Company Limited (Max Fortune Vietnam) to no later than March 31, 2011.

DATES: Effective Date: November 29, 2010.

FOR FURTHER INFORMATION CONTACT: Brian Smith or Gemal Brangman, AD/CVD Operations, Office 2, Import Administration, International Trade Administration, U.S. Department of Commerce, 14th Street and Constitution Avenue, NW., Washington, DC 20230; telephone (202) 482-1766 or (202) 482-3773, respectively.

SUPPLEMENTARY INFORMATION:

Background

On March 1, 2010, the Department published a notice of opportunity to request an administrative review of the antidumping duty order on certain tissue paper products from the PRC. See Antidumping or Countervailing Duty Order, Finding, or Suspended Investigation; Opportunity to Request Administrative Review, 75 FR 9162 (March 1, 2010). In response, on March 31, 2010, the petitioner ¹ timely requested an administrative review of the antidumping duty order on certain tissue paper products from the PRC for entries of the subject merchandise during the POR, from Max Fortune Industrial, Max Fortune Fuzhou, and Max Fortune Vietnam (i.e., exporters of the subject merchandise). Similarly, in a letter dated March 31, 2010, Huaguang Special Craft (i.e., an exporter of the subject merchandise) submitted a timely request for an administrative review of its entries of the subject merchandise during the POR. Therefore, on April 19, 2010, the Department initiated a review of Max Fortune Industrial, Max Fortune Fuzhou, Max Fortune Vietnam, and Huaguang Special Craft. See Initiation of Antidumping and Countervailing Duty Administrative Reviews and Request for Revocation in Part, 75 FR 22107 (April 27, 2010).

¹ The petitioner is Seaman Paper Company of Massachusetts, Inc.

In a letter dated July 6, 2010, Huaguang Special Craft informed the Department that it had withdrawn from this review and would no longer be participating in this segment of the proceeding. In a letter dated July 26, 2010, the petitioner withdrew its request for review of Max Fortune Industrial and Max Fortune Fuzhou, and requested that the Department rescind the review with respect to these companies. No other parties requested a review of Max Fortune Industrial, Max Fortune Fuzhou, or Huaguang Special Craft. The request for review of Max Fortune Vietnam was not withdrawn, and therefore, this administrative review will continue with respect to that company to examine its claim that it did not use PRC jumbo rolls or sheets of tissue paper in its shipments of tissue paper to the United States during the period of review. Max Fortune Vietnam is also a respondent in an ongoing anticircumvention inquiry and the Department intends to conduct verification of the above-mentioned claim in the context of that segment (see discussion below).

On March 29, 2010, the Department also initiated a circumvention inquiry on certain imports of tissue paper from Vietnam. See Certain Tissue Paper Products from the People's Republic of China: Initiation of Anti-circumvention Inquiry, 75 FR 17127 (April 5, 2010) (Initiation). In the Initiation notice, the Department stated that it would focus its analysis on the significance of the production process in Vietnam by Max Fortune Vietnam, the company the petitioner identified in its circumvention request (which is the same company on which the Department initiated an administrative review). In its June 28, 2010, response to the Department's April 23, 2010, questionnaire in the anticircumvention inquiry, Max Fortune Vietnam claimed that it did not export tissue paper to the United States produced from jumbo rolls imported from the PRC since January 2008. Likewise, in its August 17, 2010, response to the Department's May 7, 2010, questionnaire, in this review, Max Fortune Vietnam claimed that it did not export subject merchandise from the PRC or Vietnam.

Rescission, in Part, of Administrative Review

Pursuant to 19 CFR 351.213(d)(1), the Secretary will rescind an administrative review, in whole or in part, if the party who requested the review withdraws the request within 90 days of the date of publication of the notice of initiation of the requested review. Accordingly, the petitioner timely withdrew its request for review of Max Fortune Industrial and Max Fortune Fuzhou. In addition, Huaguang Special Craft withdrew its own request for review within the 90-day period. Because no other party requested a review of these companies' entries, we are rescinding this administrative review with respect to these companies in accordance with 19 CFR 351.213(d)(1).

Extension of Time Limits for Preliminary Results

Section 751(a)(3)(A) of the Tariff Act of 1930, as amended (the Act), requires the Department to issue the preliminary results of an administrative review within 245 days after the last day of the anniversary month of the date of publication of an order for which a review is requested. If it is not practicable to complete the review within this time period, section 751(a)(3)(A) of the Act allows the Department to extend this deadline to a maximum of 365 days.

As noted above, Max Fortune Vietnam claimed that it made no shipments from Vietnam of tissue paper made from PRC-origin jumbo rolls or sheets to the U.S. market during the POR. Data on the record does indicate, however, that Max Fortune Vietnam has exported tissue paper from Vietnam to the U.S. market during the period overlapping the administrative review POR. In response to the Department's questionnaire in the anticircumvention inquiry, Max Fortune Vietnam claimed that it has not exported to the United States tissue paper produced from jumbo rolls imported from the PRC since January 2008. Depending on the Department's finding in the anticircumvention segment, Max Fortune Vietnam may or may not continue to be a respondent in the administrative review. Because the Department intends to conduct verification of Max Fortune Vietnam's claims in the circumvention segment, the results of that verification will directly impact the administrative review segment of this proceeding. The Department, therefore, requires additional time in this review to make a preliminary finding on Max Fortune Vietnam's “no shipment” claim. For this reason, it is not practicable to complete this review within the original time limit. Thus, the Department is fully extending the time limit for completion of the preliminary results by 120 days to 365 days, in accordance with section 751(a)(3)(A) of the Act. The preliminary results are now due no later than March 31, 2011. The final results continue to be due 120 days after publication of the preliminary results.

Assessment

For the companies for which the Department is rescinding this review, the Department will instruct U.S. Customs and Border Protection (CBP) to assess antidumping duties on all appropriate entries. Therefore, for Max Fortune Industrial, Max Fortune Fuzhou, and Huaguang Special Craft, antidumping duties shall be assessed, if applicable, at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective orders (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

This notice is published in accordance with sections 751(a)(3)(A) and 777(i) of the Act, and 19 CFR 351.213(d)(4) and 351.213(h)(2).

Dated: November 19, 2010.
Susan H. Kuhbach,
Acting Deputy Assistant Secretary for Antidumping and Countervailing Duty Operations.

[FR Doc. 2010-29969 Filed 11-26-10; 8:45 am]

BILLING CODE 3510-DS-P